DEPARTMENT OF AGRICULTURE

Forest Service

Siskiyou County Resource Advisory Committee

AGENCY: Forest Service, USDA.

ACTION: Notice of meeting.

SUMMARY: The Siskiyou County Resource Advisory Committee (RAC) will be meeting in Yreka, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is to review prior project recommendations and decide whether or not to begin accepting new project proposals should funding become available.

DATES: Meetings will be held at 6:00 p.m. on the following dates:

• June 16, 2014.

• June 23, 2014.

• July 21, 2014.

• August 18, 2014.

• September 15, 2014.

All RAC meetings are subject to cancellation. For status of meeting prior to attendance, please contact the person listed under FOR FURTHER INFORMATION CONTACT.

ADDRESSES: The meetings will be held at the Klamath National Forest (NF) Supervisor's Office, 1711 South Main Street, Yreka, California.

Written comments may be submitted as described under SUPPLEMENTARY INFORMATION. All comments, including names and addresses when provided, are placed in the record and are available for public inspection and copying. The public may inspect comments received at the Klamath NF Supervisor's Office.

FOR FURTHER INFORMATION CONTACT: Jodi Marron, RAC Coordinator, by phone at 530-841-4411 or via email at jrmarron@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or procedings by contacting the person listed above.

SUPPLEMENTARY INFORMATION: Additional RAC information, including the meeting agenda and the meeting summary/minutes can be found at the following Web site: https://fsplaces.fs.fed.us/fsfiles/unit/wo/secure_rural_schools.nsf. The agenda will include time for people to make oral statements of three minutes or less. Anyone who would like to bring related matters to the attention of the committee may file written statements with the committee staff before or after the meeting. Written comments may be sent to Jodi Marron, RAC Coordinator, Klamath NF Supervisor's Office, 1711 South Main Street, Yreka, California 96097; by email to jrmarron@fs.fed.us, or via facsimile to 530-841-4571.

Meeting Accommodations: If you are a person requiring reasonable accommodation, please make requests in advance for sign language interpreting, assistive listening devices or other reasonable accommodation for access to the facility or proceedings by contacting the person listed in the section titled FOR FURTHER INFORMATION CONTACT. Reasonable accommodation requests are addressed on a case-by-case basis.

Dated: May 29, 2014.
Patricia A. Grantham,
Forest Supervisor.

[FR Doc. 2014-13196 Filed 6-5-14; 8:45 am]

BILLING CODE 3411-15-P